DEPARTMENT OF HEALTH AND HUMAN SERVICES

Centers for Medicare & Medicaid Services

42 CFR Parts 412, 413, 415, 485, and 489

[CMS-1406-CN]

RINs 0938-AP33; 0938-AP39; 0938-AP76

Medicare Program; Changes to the Hospital Inpatient Prospective Payment Systems for Acute Care Hospitals and Fiscal Year 2010 Rates and to the Long-Term Care Hospital Prospective Payment System and Rate Year 2010 Rates; Corrections

AGENCY: Centers for Medicare & Medicaid Services (CMS), HHS.

ACTION: Correction of final rules and interim final rule with comment period.

SUMMARY: This document corrects technical errors and typographical errors that appeared in the final rules and interim final rule with comment period published in the Federal Register on August 27, 2009 entitled “Medicare Program; Changes to the Hospital Inpatient Prospective Payment Systems for Acute Care Hospitals and Fiscal Year 2010 Rates and to the Long-Term Care Hospital Prospective Payment System and Rate Year 2010 Rates.”

DATES: Effective Date: This correction document is effective October 2, 2009.

Applicability Date: This correction document is applicable to discharges occurring on or after October 1, 2009.

FOR FURTHER INFORMATION CONTACT: Tzvi Hefter, (410) 786-4487.

SUPPLEMENTARY INFORMATION:

I. Background

In FR Doc. E8-18663 of August 27, 2009 (74 FR 43754), the final rule with comment period entitled “Medicare Program; Changes to the Hospital Inpatient Prospective Payment Systems for Acute Care Hospitals and Fiscal Year 2010 Rates and to the Long-Term Care Hospital Prospective Payment System and Rate Year 2010 Rates” (hereinafter referred to as the FY 2010 IPPS/RY 2010 LTCH PPS final rule) there were a number of technical errors that are identified and corrected in the Correction of Errors section below. The provisions in this correction notice are effective as if they had been included in the document published August 27, 2009. Further, changes to our rates have already been made through PRICER and joint signature memoranda. Accordingly, the corrections are effective October 1, 2009.

II. Summary of Errors

A. Errors in the Preamble

On page 43889, in our discussion of the submission period for annual electronically acknowledgement of the completeness and accuracy of data, the submission period was incorrectly indicated as once between January 1, 2010 and August 15, 2010. Therefore, in section III.A.1. of this notice, we are correcting our discussion to require hospitals to electronically acknowledge their data accuracy and completeness once between July 1, 2010 and August 15, 2010 for the FY 2011 payment determination.

On page 43920, in our discussion of hospital emergency services under the Emergency Medical Treatment and Labor Act (EMTALA), we made a technical error in a parenthetical phrase by noting that emphasized text was underlined instead of italicized. Therefore, in section III.A.2. of this notice, we are correcting the phrase “(which are underlined)” to read “(which are italicized).”

On page 43934, in our discussion regarding critical access hospitals (CAHs) and provider-based entities, we inadvertently provided the following incorrect example “For example, a CAH-based RHC with 50 or more beds is a provider-based entity because it is paid based on the RHC payment methodology at 42 CFR 405.2462.” In section III.A3. of this notice, we are correcting the example.

On page 43994, we inadvertently misnumbered the heading for sections “XI. MedPAC Recommendations” and “XII. Other Required Information” and we are correcting these numbering errors in section III.A.4. of this notice.

B. Errors in the Addendum

On pages 44011, 44015, 44017, 44019, 44020, 44021, and 44031, we inadvertently cited that the forecast of the FY 2006-based capital input price index (CIPI) for FY 2010 is 1.4 percent. However, the FY 2006-based CIPI for FY 2010 is forecast 1.2 percent, as stated in the preamble of the FY 2010 IPPS/RY 2010 LTCH PPS final rule. We are correcting this error in the update to the capital rates. We are also correcting that capital outlier offset since outlier payments are determined based on the capital rates. (See sections III.B.3. through 7. of this notice.)

On page 44031, in Table 1A—National Adjusted Operating Standardized Amounts, Labor/Nonlabor (68.8 Percent Labor Share/31.2 Percent Nonlabor Share If Wage Index Is Greater Than 1) and Table 1B—National Adjusted Operating Standardized Amounts, Labor/Nonlabor (62 Percent Labor Share/38 Percent Nonlabor Share If Wage Index Is Less Than or Equal to 1), we are correcting a typographical error in the column headings for the “reduced update.” Section 1886(b)(3)(B)(viii) of the Act provides for a reduction of 2.0 percentage points from the update percentage increase (also known as the market basket update) for FY 2007 and subsequent fiscal years. As stated in the preamble to the FY 2010 IPPS/RY 2010 LTCH PPS final rule, the market basket update to the national adjusted operating standardized amounts for FY 2010 is 2.1 percent. Therefore, the reduced update to the national adjusted operating standardized amounts for hospitals that fail to submit quality data consistent with section 1886(b)(3)(B)(viii) of the Act for FY 2010 is 0.1 percent (that is, 2.1 percent minus 2.0 percent). However, Tables 1A and 1B erroneously cite that the reduced update is 1.1 percent; and therefore, we are correcting this error in the column headings. (See section III.B.7. of this notice.)

On page 44031, in Table 1D—Capital Standard Federal Payment Rate, we are correcting an inadvertent error in the update to the capital rates, wherein the Addendum of the FY 2010 IPPS/RY 2010 LTCH PPS final rule, in establishing the capital update, we erroneously cited the CIPI forecast for FY 2010 as 1.4 percent. However, as stated in the preamble of that final rule, the CIPI for FY 2010 is 1.2. We are correcting this error in the update to the capital rates (see section III.B.7. of this notice).

On pages 44032 through 44078, in Table 2.—Acute Care Hospitals Case-Mix Indexes for Discharges Occurring in Federal Fiscal Year 2008; Hospital Wage Indexes for Federal Fiscal Year 2010; Hospital Average Hourly Wages for Federal Fiscal Years 2008 (2004 Wage Data), 2009 (2005 Wage Data), and 2010 (2006 Wage Data); and 3-Year Average of Hospital Average Hourly Wages, we are correcting technical errors in hospitals' wage data or geographic classifications that were used in calculating the wage index that was published in the FY 2010 IPPS/RY 2010 LTCH PPS final rule. We are correcting Table 2 by adding the wage data for provider 230105, which through an inadvertent typographical error was omitted from the table. In addition, we are correcting inadvertent errors in the case mix index and FY 2010 wage index for provider 110230. We note that the correction of these errors do not require us to recalculate the wage indexes for other providers that are located in or reclassified to the same geographic area because provider 110230 is a new provider and has no average hourly wage data. Also, in accordance with our regulations regarding midyear corrections to the wage index (42 CFR 412.64(k)(2)(ii)), we are correcting the wage data for 4 providers (310034, 310052, 310073, and 330005). Other corrections to Table 2 address the addition of a hospital's wage and occupational mix data that were erroneously excluded from the final FY 2010 wage index (provider 050335) and the removal of a hospital's wage data that were erroneously included in the final FY 2010 wage index (provider 050325). In addition, we are correcting errors in geographic classifications for 5 providers (providers 150015, 230195, 330106, 340010, and 390201). As a result of the wage data, occupational mix data, and geographic classification corrections made for the 11 providers noted, we are also correcting the wage index for other providers that are located in or reclassified to the same geographic area. (See section III.B.8. of this notice.)

On page 44079, in Table 3A—FY 2010 and 3-Year* Average Hourly Wage for Acute Care Hospitals in Urban Areas by CBSA and Table 3B—FY 2010 and 3-Year* Average Hourly Wage for Acute Care Hospitals in Rural Areas by CBSA, we are correcting certain area average hourly wages based on corrections to errors in hospital wage data for several providers. As discussed previously, in Table 2 we are correcting the wage data for 4 providers. The corrections to the wage data for provider 330005 also require a correction in the associated area average hourly wage. Therefore, in section III.B.9. of this notice, we are correcting the area average hourly wage for CBSA 15380 (Buffalo-Niagara Falls, NY). (The corrections to the wage data for providers 310034, 310052, 310073 do not result in a change to the associated area average hourly wage.)

On page 44084, in Table 3B—FY 2010 and 3-Year* Average Hourly Wage for Acute Care Hospitals in Rural Areas by CBSA, we are correcting an area average hourly wage based on corrections to errors in the wage data for two providers. As discussed previously, in Table 2 we are correcting the wage and occupational mix data for providers 050335 and 050325. The corrections to the wage data for these providers also require correction of the associated area average hourly wage. Therefore, in section III.B.10. of this notice, we are correcting the area average hourly wage for CBSA 05 (California).

On pages 44085 through 44095, in Table 4A.—Wage Index and Capital Geographic Adjustment Factor (GAF) for Acute Care Hospitals in Urban Areas, Table 4B.—Wage Index and Capital Geographic Adjustment Factor (GAF) for Acute Care Hospitals in Rural Areas and Table 4C.—Wage Index and Capital Geographic Adjustment Factor (GAF) for Acute Care Hospitals that are Reclassified, we are correcting technical errors in hospitals' geographic classifications that were used in calculating the wage index that was published in the FY 2010 IPPS/RY 2010 LTCH PPS final rule. After correcting the geographic classification for provider 230195 (that is, removing the provider from Table 9A), there are no longer any hospitals that are reclassified to CBSA 19804 for the FY 2010 wage index. (See sections III.B.11. through 13. of this notice.)

On page 44121 and 44122, in Table 4J—Out-Migration Adjustment for Acute Care Hospitals—FY 2010, we are correcting a technical error in the data that were used in computing the outmigration adjustments that were published in the FY 2010 IPPS/RY 2010 LTCH PPS final rule. We are correcting the outmigration adjustment for providers in Wayne County, MI, only. However, this correction has no impact on the wage index values in Tables 2, 4A, and 4B because all of the Wayne County providers are reclassified instead to Ann Arbor, MI (CBSA 11460). Therefore, they are ineligible to receive the outmigration adjustment. (See section III.B.14. of this notice.)

On page 44140, in Table 6E.—Revised Diagnosis Code Titles, we made a typographical error in the description of diagnosis code 793.99. Therefore, we are correcting the phrase “radiological and other examination” to read “radiological and other examinations.” (See section III.B.15. of this notice.)

On page 44161 and 44173, in Table 9A.—Hospital Reclassifications and Redesignations—FY 2010, we are correcting technical errors in hospitals' geographic classifications that were used in calculating the wage index that was published in the FY 2010 IPPS/RY 2010 LTCH PPS final rule. Providers 110230, 150015, 230195, and 390201 were erroneously listed in Table 9A of the Addendum to that final rule as being reclassified; and therefore, we are correcting the table by removing these providers. Conversely, provider 330106 was inadvertently omitted from the Table 9A; and therefore, we are correcting this error by adding this provider. (See section III.B.16. of this notice.)

On page 44173, in Table 9C.—Hospitals Redesignated as Rural Under Section 1886(d)(8)(E) of the Act—FY 2010, we inadvertently omitted provider 340010. Therefore we are correcting this error by adding this provider. (See section III.B.17. of this notice.)

On pages 44195 and 44212, in Table 12A.—LTCH PPS Wage Index for Urban Areas for Discharges Occurring From October 1, 2009 Through September 30, 2010 and Table 12B.—LTCH PPS Wage Index for Rural Ares for Discharges Occurring From October 1, 2009 Through September 30, 2010, consistent with the corrections to the IPPS wage data discussed in this notice, we are correcting technical errors in hospitals' wage data that were used in calculating the LTCH PPS wage index that was published in the FY 2010 IPPS/RY 2010 LTCH IPPS final rule. (See sections III.B.18. and 19. of this notice.)

On pages 44213, 44228 through 44230, and 44234 through 44235, we are correcting the impact analysis to reflect the correct CIPI of 1.2 percent rather than 1.4 percent and the payment estimates associated with the CIPI. (See sections III.B.20. through 24. of this notice.)

III. Correction of Errors

In FR Doc. E8-18663 of August 27, 2009 (74 FR 43754), make the following corrections:

A. Corrections to the Preamble

1. On page 43889, third column, seventh paragraph, line 10, the date “January 1, 2010” is corrected to read “July 1, 2010.”

2. On page 43920, second column, first full paragraph, line 32, the phrase “(which are underlined)” is corrected to read “(which are italicized)”.

3. On page 43934, third column, second full paragraph, the sentence “For example, a CAH-based RHC with 50 or more beds is a provider-based entity because it is paid based on the RHC payment methodology at 42 CFR 405.2462.” is corrected to read “For example, a CAH-based RHC (that is, an RHC that is provider-based to a hospital with fewer than 50 beds) is not subject to the per visit payment limitations under section 1833(f) of the Act.”

4. On page 43994,

a. First column, after the second full paragraph, the heading “XI. MedPAC Recommendations” is corrected to read “XII. MedPAC Recommendations.”

b. Second column, after the fourth paragraph, the heading “XII. Other Required Information” is corrected to read “XIII. Other Required Information.”

B. Corrections to the Addendum

1. On page 44011, in the second column,

a. In the second full paragraph, line 13, the figure “5.2” is corrected to read “5.3”.

b. In the table following fourth paragraph, the table is corrected to read as follows:

| Capital Federal Rate
National | 0.947484
Puerto | 0.935759

2. On page 44015, third column,

a. First full paragraph,

(1) Line 9, the figure “1.4” is corrected to read “1.2.”

(2) Line 13, the figure “$171” is corrected to read “$154.”

b. Second full paragraph,

(1) Line 11, the figure “1.40” is corrected to read “1.20.”

(2) Line 14, the figure “1.4” is corrected to read “1.2.”

3. On page 44017,

a. Second column,

(1) Fourth full paragraph, line 2, the figure “1.4” is corrected to read “1.2.”

(2) Following the fourth full paragraph, in the table entitled “CMS FY 2010 Update to the Capital Federal Rate,” the figures for the listed entries are corrected to read as follows:

Capital Input Price Index | 1.2
Subtotal | 1.2
Total Update | 1.2

b. Third column,

(1) Second full paragraph,

(a) Line 10, the figure “5.23” is corrected to read “5.25.”

(b) Line 13, the figure “0.9477” is corrected to read “0.9475.”

(2) Third full paragraph,

(a) Line 5, the figures “0.9477” and “0.13” are corrected to read “0.9475” and “0.11,” respectively.

(b) Line 9, the figure “1.0013” is corrected to read “1.0011.”

(c) Line 10, the figure “0.9477” is corrected to read “0.9475.”

(d) Line 12, the figure “0.13” is corrected to read “0.11.”

4. On page 44019, third column,

a. First full paragraph,

(1) Line 3, the figure “1.4” is corrected to read “1.2.”

(2) Line 5, the figure “1.4” is corrected to read “1.2.”

(3) Line 8, the figure “$430.15” is corrected to read “$429.26.”

b. Second full paragraph (first bulleted paragraph)

(1) Line 1, the figure “1.0140” is corrected to read “1.0120.”

(2) Line 2, the figure “1.4” is corrected to read “1.2.”

c. Fourth full paragraph (third bulleted paragraph), last line, the figure “0.9477” is corrected to read “0.9475.”

d. Last paragraph,

(1) Line 8, the figure “1.4” is corrected to read “1.2.”

(2) Line 14, the figure “0.13” is corrected to read “0.11.”

5. On page 44020,

a. Top third of the page,

(1) Third column, line 2, the figure “1.4” is corrected to read “1.2.”

(2) The table entitled “Comparison of Factors and Adjustments: FY 2009 Capital Federal Rate and FY 2010 Capital Federal Rate”, the listed entries and footnote are corrected to read as follows:

| FY 2010 | Change | Percent change
Update Factor ¹ | 1.0120 | 1.0120 | 1.20
Outlier Adjustment Factor ² | 0.9475 | 1.0011 | 0.11
Capital Federal Rate | $429.26 | 1.0120 | 1.20
² The outlier reduction factor and the exceptions adjustment factor are not built permanently into the capital rates; that is, these factors are not applied cumulatively in determining the capital rates. Thus, for example, the net change resulting from the application of the FY 2010 outlier adjustment factor is 0.9475/0.9465, or 1.0011.

b. Middle third of the page, the table entitled “Comparison of Factors and Adjustments: Proposed FY 2009 Capital Federal Rate and Final FY 2010 Capital Federal Rate”, the listed entries are corrected to read as follows:

| Final FY 2010 | Change | Percent change
Update Factor | 1.0120 | 1.0000 | 0.00
Outlier Adjustment Factor | 0.9475 | 1.0022 | 0.22
Capital Federal Rate | $429.26 | 1.0204 | 2.04

c. Bottom third of the page, third column, first full paragraph, line 4, the figure “$204.01” corrected “$203.56.”

6. On page 44021, second column, second full paragraph,

a. Line 4, the figure “1.4” is corrected to read “1.2.”

b. Line 13, the figure “1.4” is corrected to read “1.2.”

7. On page 44031,

a. Top half of the page,

(1) Table 1A—National Adjusted Operating Standardized Amounts, Labor/Nonlabor (68.8 Percent Labor Share/31.2 Percent Nonlabor Share If Wage Index Is Greater Than 1), the second column heading “Reduce update (1.1 percent)” is corrected to read “Reduce update (0.1 percent).”

(2) Table 1B—National Adjusted Operating Standardized Amounts, Labor/Nonlabor (62 Percent Labor Share/38 Percent Nonlabor Share If Wage Index Is Less Than or Equal to 1), the second column heading “Reduce update (1.1 percent)” is corrected to read “Reduce update (0.1 percent).”

b. Bottom half of the page, in Table 1D—Capital Standard Federal Payment Rate, the rate entries are corrected to read as follows:

| Rate
National | $429.26
Puerto Rico | 203.56

8. On pages 44032 through 44078, in Table 2.—Acute Care Hospitals Case-Mix Indexes for Discharges Occurring in Federal Fiscal Year 2008; Hospital Wage Indexes for Federal Fiscal Year 2010; Hospital Average Hourly Wages for Federal Fiscal Years 2008 (2004 Wage Data), 2009 (2005 Wage Data), and 2010 (2006 Wage Data); and 3-Year Average of Hospital Average Hourly Wages, the listed entries are corrected to read as follows:

9. On page 44079, in Table 3A—FY 2010 and 3-Year* Average Hourly Wage for Acute Care Hospitals in Urban Areas by CBSA, the listed entry is corrected to read as follows:

CBSA code | Urban area | FY 2010 average hourly wage | 3-Year average hourly wage
15380 | Buffalo-Niagara Falls, NY | 32.9408 | 31.2001

10. On page 44084, in Table 3B.—FY 2010 and 3-Year* Average Hourly Wage for Acute Care Hospitals in Rural Areas by CBSA, the listed entry is corrected to read as follows:

CBSA code | Nonurban area | FY 2010 Average hourly wage | 3-Year average hourly wage
05 | California | 39.9000 | 38.2787

11. On pages 44085 through 44090, in Table 4A.—Wage Index and Capital Geographic Adjustment Factor (GAF) for Acute Care Hospitals in Urban Areas by CBSA and by State—FY 2010, the listed entries are corrected to read as follows:

CBSA | CBSA name | State | Wage index | GAF
12540 | Bakersfield, CA | CA | 1.1831 | 1.1220
15380 | Buffalo-Niagara Falls, NY | NY | 0.9809 | 0.9869
17020 | Chico, CA | CA | 1.1831 | 1.1220
19804 | Detroit-Livonia-Dearborn, MI | MI | 0.9777 | 0.9847
20940 | El Centro, CA | CA | 1.1831 | 1.1220
23420 | Fresno, CA | CA | 1.1831 | 1.1220
23844 | Gary, IN | IN | 0.9168 | 0.9422
25260 | Hanford-Corcoran, CA | CA | 1.1831 | 1.1220
27340 | Jacksonville, NC | NC | 0.8605 | 0.9022
31460 | Madera-Chowchilla, CA | CA | 1.1831 | 1.1220
40140 | Riverside-San Bernardino-Ontario, CA | CA | 1.1831 | 1.1220
41740 | San Diego-Carlsbad-San Marcos, CA | CA | 1.1831 | 1.1220
42044 | Santa Ana-Anaheim-Irvine, CA | CA | 1.1831 | 1.1220
47300 | Visalia-Porterville, CA | CA | 1.1831 | 1.1220
49700 | Yuba City, CA | CA | 1.1831 | 1.1220

12. On page 44091, in Table 4B—Wage Index and Capital Geographic Adjustment Factor (GAF) for Acute Care Hospitals in Rural Areas by CBSA and by State—FY 2010, the listed entries are corrected to read as follows:

CBSA | CBSA name | State | Wage index | GAF
05 | California | CA | 1.1831 | 1.1220
34 | Rural North Carolina | NC | 0.8605 | 0.9022

13. On pages 44091 through 44095, in Table 4C.—Wage Index and Capital Geographic Adjustment Factor (GAF) for Acute Care Hospitals that are Reclassified by CBSA and by State—FY 2010, the listed entries are corrected by—

a. Correcting the wage indexes and GAFs for the following CBSAs:

CBSA | CBSA name | State | Wage index | GAF
05 | California | CA | 1.1831 | 1.1220
34 | Rural North Carolina | NC | 0.8605 | 0.9022
34 | Rural North Carolina | TN | 0.8592 | 0.9013
10900 | Allentown-Bethlehem-Easton, PA-NJ | PA | 0.9811 | 0.9870
15380 | Buffalo-Niagara Falls, NY | NY | 0.9809 | 0.9869
23844 | Gary, IN | IN | 0.9168 | 0.9422
31084 | Los Angeles-Long Beach-Glendale, CA | CA | 1.1831 | 1.1220
33700 | Modesto, CA | CA | 1.2202 | 1.1460
35644 | New York-White Plains-Wayne, NY-NJ | CT | 1.2651 | 1.1747
35644 | New York-White Plains-Wayne, NY-NJ | NJ | 1.2722 | 1.1792
35644 | New York-White Plains-Wayne, NY-NJ | NY | 1.2903 | 1.1907
42044 | Santa Ana-Anaheim-Irvine, CA | CA | 1.1831 | 1.1220

b. Removing the entry for the following CBSA:

CBSA | CBSA name | State | Wage index | GAF
19804 | Detroit-Livonia-Dearborn, MI | MI | 0.9788 | 0.9854

14. On pages 44121 and 44122, in Table 4J—Out-Migration Adjustment for Acute Care Hospitals—FY 2010, the listed entries are corrected to read as follows:

Provider number | Reclassified for FY 2010 | Out-migration adjustment | Qualifying county name | County code
230002 | * | 0.0043 | WAYNE | 23810
230020 | * | 0.0043 | WAYNE | 23810
230024 | * | 0.0043 | WAYNE | 23810
230053 | * | 0.0043 | WAYNE | 23810
230089 | * | 0.0043 | WAYNE | 23810
230104 | * | 0.0043 | WAYNE | 23810
230135 | * | 0.0043 | WAYNE | 23810
230142 | * | 0.0043 | WAYNE | 23810
230146 | * | 0.0043 | WAYNE | 23810
230165 | * | 0.0043 | WAYNE | 23810
230176 | * | 0.0043 | WAYNE | 23810
230244 | * | 0.0043 | WAYNE | 23810
230270 | * | 0.0043 | WAYNE | 23810
230273 | * | 0.0043 | WAYNE | 23810
230297 | * | 0.0043 | WAYNE | 23810

15. On page 44140, in Table 6E.—Revised Diagnosis Code Titles, in the description (column 2) for diagnosis code 793.99 is the phrase “radiological and other examination” is corrected to read “radiological and other examinations.”

16. On pages 44161 and 44173, in Table 9A.—Hospital Reclassifications and Redesignations—FY 2010 the table is corrected by—

a. Removing the following entries:

Provider number | Geographic CBSA | Reclassified CBSA | LUGAR
110230 | 11 | 16860 | LUGAR
150015 | 33140 | 23844 |
230195 | 47644 | 19804 |
390201 | 39 | 10900 | LUGAR

b. Adding following entry:

Provider number | Geographic CBSA | Reclassified CBSA | LUGAR
330106 | 35004 | 35644 |

17. On page 44173, in Table 9C.—Hospitals Redesignated as Rural Under Section 1886(d)(8)(E) of the Act—FY2010 is corrected by adding the listed provider to read as follows:

Provider No. | Geographic CBSA | Redesignated rural area
340010 | 24140 | 34

18. On page 44195, in Table 12A.—LTCH PPS Wage Index for Urban Areas for Discharges Occurring From October 1, 2009 Through September 30, 2010, the LTCH PPS wage index for the listed entry is corrected to read as follows:

CBSA code | Urban area (Constituent Counties) | LTCH PPS wage index
15380 | Buffalo-Niagara Falls, NY | 0.9740
| Erie County, NY
| Niagara County, NY

19. On page 44212, in Table 12B.—LTCH PPS Wage Index for Rural Areas for Discharges Occurring From October 1, 2009 Through September 30, 2010, the LTCH PPS wage index for the listed entry is corrected to read as follows:

CBSA code | Nonurban area | LTCH PPS wage index
05 | California | 1.2051

20. On page 44213, first column, third paragraph,

a. Line 14, the figure “$171” is corrected to read “$154.”

b. Line 15, the figure “1.9” is corrected to read “1.7.”

21. On page 44228,

a. Second column,

(1) First partial paragraph, line 5, the figure “1.4” is corrected to read “1.2.”

(2) First full paragraph, line 5, the figure “0.9477” is corrected to read “0.9475.”

(3) Third full paragraph, the phrase “proposed 1.4 percent” is corrected to read “1.2 percent.”

(4) Last paragraph, line 5, the figure “1.4” is corrected to read “1.2.”

b. Third column,

(1) First partial paragraph, line 9, the figure “1.9” is corrected to read “1.7.”

(2) First full paragraph,

(a) Line 3, the figure “2.0” is corrected to read “1.8.”

(b) Line 7, the figure “2.1” is corrected to read “1.9.”

(c) Last line, the figure “1.5” is corrected to read “1.3.”

(3) Second full paragraph,

(a) Line 4, the figure “0.7” is corrected to read “0.5.”

(b) Line 6, the figure “2.8” is corrected to read “2.6.”

(4) Third full paragraph,

(a) Line 3, the figure “1.9” is corrected to read “1.7.”

(b) Line 5, the figure “2.0” is corrected to read “1.8.”

(5) Last paragraph,

(a) Line 10, the figure “2.0” is corrected to read “1.8.”

(b) Line 13, the figures “1.7” and “1.1” are corrected to read “1.4” and “0.9,” respectively.

(c) Line 17, the figure “1.9” is corrected to read “1.6.”

22. On pages 44229 and 44230, in Table III—Comparison of Total Payments Per Case [FY 2009 Payments Compared to FY 2010 Payments], the table is corrected to read as follows:

BILLING CODE 4120-01-P

BILLING CODE 4120-01-C

23. On page 44234, third column, third full paragraph,

a. Line 21, the figure “2.1” is corrected to read “1.7.”

b. Line 25, the figure “$171” is corrected to read “$154.”

c. Line 28, the figure “$1.899” is corrected to read “$1.892.”

24. On page 44235, first column, in Table V.—Accounting Statement: Classification of Estimated Expenditures under the IPPS from FY 2009 to FY 2010, the listed entries are corrected to read as follows:

Category | Transfers
Annualized Monetized Transfers | $1.892 billion
Total | $1.892 billion

III. Waiver of Proposed Rulemaking and Delay in Effective Date

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued.

We are waiving proposed rulemaking and the 30-day delayed effective date for the technical corrections in this notice. This notice merely corrects typographical and technical errors in the preamble, and addendum of the FY 2010 IPPS/RY 2010 LTCH PPS final rule and does not make substantive changes to the policies or payment methodologies that were adopted in that final rule. As a result, this notice is intended to ensure that the FY 2010 IPPS/RY 2010 LTCH PPS final rule accurately reflects the policies adopted in that final rule and it would be impracticable, unnecessary, and contrary to the public interest to undertake further notice and comment procedures to incorporate these corrections into that final rule or delaying the effective date of these changes, especially in light of the October 1, 2009 start date for FY 2010.

Further, the changes that are being made to the Addendum by this Correction Notice, including the changes to reflect the correct CIPI of 1.2 percent, do not constitute rules subject to notice and comment rulemaking under section 553 of the Administrative Procedure Act, as the changes merely ensure that the Addendum conforms to the rules and methodologies that have already been adopted through such notice and comment rulemaking.

(Catalog of Federal Domestic Assistance Program No. 93.773, Medicare—Hospital Insurance; and Program No. 93.774, Medicare—Supplementary Medical Insurance Program)

Dated: October 2, 2009.
Dawn L. Smalls,
Executive Secretary to the Department.

[FR Doc. E9-24202 Filed 10-2-09; 4:15 pm]

BILLING CODE 4120-01-P